DEPARTMENT OF LABOR

Employment and Training Administration

[TA-W-64,393]

Nikko America, Plano, TX; Notice of Negative Determination Regarding Application for Reconsideration

By application dated January 22, 2009, a petitioner requested administrative reconsideration of the Department's negative determination regarding eligibility for workers and former workers of the subject firm to apply for Trade Adjustment Assistance (TAA) and Alternative Trade Adjustment Assistance (ATAA). The denial notice was signed on January 6, 2009 and published in the Federal Register on February 2, 2009 (74 FR 5871).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition filed on behalf of workers at Nikko America, Plano, Texas was based on the finding that the worker group does not produce an article within the meaning of Section 222 of the Trade Act of 1974.

The petitioner in the request for reconsideration contends that the Department erred in its interpretation of the work performed by the workers of the subject firm. The petitioner stated that workers of the subject firm “were responsible for final assembly of some products”, including “putting batteries in the boxes where the toys were already located and placing decal stickers on the toys, taping them back up and distributing these products”. The petitioner further stated that Nikko decreased production of toys in 2008 and decided to import products directly to consumers bypassing the distribution center.

The investigation revealed that workers of Nikko America, Plano, Texas were engaged in warehousing, sales, distribution and service of radio controlled toys during the relevant period. No articles were produced by Nikko America in the United States. The subject firm imported all the products from subsidiaries of its parent company abroad. The investigation revealed that workers performed some light repair functions of products, repackaged and shipped imported products, provided customer service and performed warehousing services. The functions, as described above, are not considered production of an article within the meaning of Section 222 of the Trade Act. While the provision of warehousing and distribution services may result in repair and repackaging of the products, it is incidental to the provision of these services. No production took place at the subject facility nor did the workers support production of an article at any domestic affiliated location during the relevant period.

The petitioner alleges that increased imports of toys negatively impacted workers at the subject facility.

The allegation of the increase in imports of toys would have been relevant, if it was determined that workers of the subject firm manufactured toys. The workers were engaged in warehousing, sales and distribution of imported products. Therefore, increase in imports of toys is irrelevant to this investigation.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC, this 2nd day of March 2009.
Elliott S. Kushner,
Certifying Officer, Division of Trade Adjustment Assistance.

[FR Doc. E9-5178 Filed 3-10-09; 8:45 am]

BILLING CODE 4510-FN-P